DEPARTMENT OF THE TREASURY

Submission for OMB Review; Comment Request

September 19, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 28, 2002, to be assured of consideration.

Internal Revenue Service (IRS)

OMB Number: 1545-1091.

Form Number: IRS Form 8810.

Type of Review: Extension.

Title: Corporate Passive Activity Loss and Credit Limitations.

Description: Under section 469, losses and credits from passive activities, to the extent they exceed passive income (or, in the case of credits, the tax attributable to net passive income), are not allowed. Form 8810 is used by personal service corporations and closely held corporations to figure the passive activity loss and credits allowed and the amount of loss and credit to be reported on their tax return.

Respondents: Business or other for-profit.

Estimated Number of Respondents/Recordkeepers: 100,000.

Estimated Burden Hours Per Respondent/Recordkeeper:

Recordkeeping—26 hr., 18 min.

Learning about the law or the form—5 hr., 15 min.

Preparing and sending the form to the IRS—5 hr., 55 min.

Frequency of Response: Annually.

Estimated Total Reporting/Recordkeeping Burden: 3,749,000 hours.

OMB Number: 1545-1675.

Regulation Project Number: REG-122450-98 Final; REG-100276-97 and REG-122450-98 NPRM.

Type of Review: Extension.

Title: Real Estate Mortgage Investment Conduits; Financial Asset Securitization Investment Trusts; and Real Estate Mortgage Investment Conduits.

Description: REG-122450-98 Sections 1.860E-1(c)(4)-(10) of the Treasury Regulations provide circumstances under which a transferor of a noneconomic residual interest in a Real Estate Investment Conduit (REMIC) meeting the investigation, and two representation requirements may avail itself of the safe harbor by satisfying either the formula test or asset test.

REG-100276-97; REG-122450-98 This regulation provides start-up and transitional rules applicable to financial asset securitization investment trust.

Respondents: Business or other for-profit.

Estimated Number of Respondents: 620.

Estimated Burden Hours Per Respondent: 1 hour.

Frequency of Response: Annually, Other (one-time reporting requirement).

Estimated Total Reporting Burden: 1,220 hours.

Clearance Officer: Glenn Kirkland, Internal Revenue Service, Room 6411-03, 1111 Constitution Avenue, NW., Washington, DC 20224. (202) 622-3428.

OMB Reviewer: Joseph F. Lackey, Jr., Office of Management and Budget, Room 10235, New Executive Office Building, Washington, DC 20503. (202) 395-7316.

Mary A. Able,
Departmental Reports, Management Officer.

[FR Doc. 02-24560 Filed 9-26-02; 8:45 am]

BILLING CODE 4830-01-P